DEPARTMENT OF ENERGY

Federal Energy Regulatory Commission

[Docket No. CP03-29-000]

Columbia Gas Transmission Corporation; Notice of Application

December 23, 2002.

Take notice that on December 17, 2002, Columbia Gas Transmission Corporation (Columbia), 12801 Fair Lakes Parkway, Fairfax, Virginia 22030-0146, filed an application pursuant to sections 7(b) and 7(c) of the Natural gas Act (NGA) and part 157 of the Commission's regulations, for a certificate of public convenience and necessity for a limited blanket certificate to perform certain specific activities at its Victory storage field in Marshall and Wetzel Counties, West Virginia, all as more fully set forth in the application on file with the Commission and open to public inspection. This filing is available for review at the Commission or may be viewed on the Commission's Web site at http://www.ferc.gov using the “FERRIS” link. Enter the docket number excluding the last three digits in the docket number field to access the document. For assistance, please contact FERC Online Support at FERCOnlineSupport@ferc.gov or toll-free at (866)208-3676, or for TTY, contact (202)502-8659.

Columbia states that on September 18, 2002, Consolidated Coal Company and McElroy Coal Company (collectively referred to as McElroy) and Columbia executed a settlement agreement relating to the continued operation of the victory storage field in tandem with coal mining operations. It is stated that the settlement agreement is structured to allow McElroy continuous access for its coal mining operation while ensuring a preservation of current storage field deliverability, in a cost effective manner, for Columbia and its customers. In addition, it is stated that as a result of the sequential drill-and-plug approach adopted by the parties for maintaining deliverability, mining activities through Victory should progress more safely.

Columbia states that once mining within the Victory storage field commences, it will frequently be required to act within time frames that do not permit seeking advance Commission authorization each time an active injection/withdrawal well must be plugged to accommodate mining, or a replacement injection/withdrawal well must be drilled to preserve existing deliverability. In order to avoid the need for repeatedly seeking expedited decisions on matters requiring NGA section 7 authority, Columbia requests a limited blanket certificate for authorization to drill replacement injection/withdrawal wells, and abandon existing injection/withdrawal wells, and a flexible time frame for meeting the normal environmental reporting requirements associated with such activities.

Columbia maintains that the settlement agreement with McElroy insulates Columbia and its customers from the costs associated with abandoning existing injection/withdrawal or observation wells and drilling replacement injection/withdrawal or observation wells. Columbia avers that its customers will incur no significant costs in conjunction with replacing existing wells and ancillary equipment with replacement wells and equipment while preserving existing capacity and deliverability from the Victory storage field. Columbia states that it would seek rolled-in rate treatment for the minor non-reimbursed costs which will be incurred with respect to well abandonment and replacement activities in Victory. Columbia states that McElroy would pay for up to 750 feet of well line to connect each replacement well and Columbia would pay for any footage of well line over 750 feet. Columbia further states that for pipelines impacted by mining, Columbia would receive a reimbursement of 50 percent of the costs associated with mitigating impact on pipelines in Victory which are 12-inch or greater in diameter when such pipelines are schedule to be, or are, mined under during the months of December, January, February or March of any year while the settlement agreement is in effect. Under such a scenario, Columbia states that it would seek to roll-in to its rates the portion of pipeline costs not reimbursed by McElroy.

Any questions regarding this application should be directed to counsel for Columbia, Fredric J. George, Columbia Gas Transmission Corporation, P.O. Box 1273, Charleston, West Virginia 25325-1273, at (304) 357-2359, fax (304) 357-3206.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's rules of practice and procedure (18 CFR 385.214 or 385.211) and the regulations under the NGA (18 CFR 157.10). A person obtaining party status will be placed on the service list maintained by the Secretary of the Commission and will receive copies of all documents filed by the applicant and by all other parties. A party must submit 14 copies of filings made in the proceeding. with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Protests and interventions may be filed electronically via the Internet in lieu of paper; see 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying a certificate will be issued.

Comment Date: January 13, 2003.

Linwood A. Watson, Jr.,
Deputy Secretary.

[FR Doc. 02-32874 Filed 12-27-02; 8:45 am]

BILLING CODE 6717-01-P